DEPARTMENT OF HEALTH AND HUMAN SERVICES

Health Care Financing Administration

Privacy Act of 1974; Report of Modified or Altered System

AGENCY: Department of Health and Human Services (HHS), Health Care Financing Administration (HCFA).

ACTION: Notice of modified or altered system of records.

SUMMARY: In accordance with the requirements of the Privacy Act of 1974, we are proposing to modify or alter a system of records, “Record of Individuals Authorized Entry to HCFA Buildings Via A Card Key Access System (RICKS), HHS/HCFA/OBA, System No. 09-70-3001.” We are also proposing to delete previously published routine use number 1 pertaining to the Federal Protective Services, number 2 pertaining to management officials inquiring about an individual's arrival time, number 3 pertaining to contractors and other Federal agencies, number 6 pertaining to a contractor, and an unnumbered routine use which authorized disclosure to the Social Security Administration (SSA). Disclosures allowed by routine uses number 1, 3 pertaining to “Federal agencies,” and to the SSA will be covered by proposed routine use number 2 to permit release of information to “another Federal agency.” Routine use number 2 is being deleted because it is not clear what “management officials” are being identified and who should receive information referred to in routine use number 2. Disclosures to a “management official inquiring about an individual's arrival time” are covered by exception 1 of the Privacy Act and should not be treated as a routine use. Disclosures previously allowed by routine uses number 3 pertaining to contractors and number 6 will now be covered by proposed routine use number 1. The security classification previously reported as “None” will be modified to reflect that the data in this system is considered to be “Level Three Privacy Act Sensitive.” We are modifying the language in the remaining routine uses to provide clarity to HCFA's intention to disclose individual-specific information contained in this system. The routine uses will then be prioritized and reordered according to their proposed usage. We will also take the opportunity to update any sections of the system that were affected by the recent reorganization and to update language in the administrative sections to correspond with language used in other HCFA systems of records.

The primary purpose of the system of records is to issue and control United States Government card keys to all HCFA employees and other authorized individuals who require access into certain designated or secured areas. Information retrieved from this system of records will be used to: support regulatory and policy functions performed within the agency or by a contractor or consultant, assist other Federal agencies to conduct activities related to this system, support constituent requests made to a congressional representative, and support litigation involving the agency. We have provided background information about the modified system in the Supplementary Information section below. Although the Privacy Act requires only that HCFA provide an opportunity for interested persons to comment on the proposed routine uses, HCFA invites comments on all portions of this notice. See Effective Dates section for comment period.

EFFECTIVE DATES: HCFA filed a modified or altered system report with the Chair of the House Committee on Government Reform and Oversight, the Chair of the Senate Committee on Governmental Affairs, and the Administrator, Office of Information and Regulatory Affairs, Office of Management and Budget (OMB) on March 12, 2001. To ensure that all parties have adequate time in which to comment, the modified or altered system of records, including routine uses, will become effective 40 days from the publication of the notice, or from the date it was submitted to OMB and the Congress, whichever is later, unless HCFA receives comments that require alterations to this notice.

ADDRESSES: The public should address comments to: Director, Division of Data Liaison and Distribution, HCFA, Room N2-04-27, 7500 Security Boulevard, Baltimore, Maryland 21244-1850. Comments received will be available for review at this location, by appointment, during regular business hours, Monday through Friday from 9 a.m.-3 p.m., eastern time zone.

FOR FURTHER INFORMATION CONTACT: Marcia Levin, Division of Facilities Management Services, Administrative Services Group, HCFA, SLL-11-18, 7500 Security Boulevard, Baltimore, Maryland 21244-1850. The telephone number is 410-786-7840.

SUPPLEMENTARY INFORMATION:

I. Description of the Modified System of Records

Statutory and Regulatory Basis for System of Records

In 1981, HCFA established a system of records under the authority of Title 41 Code of Federal Regulations (CFR) Chapter 101-20.302, “Conduct on Federal Property,” Title 5 United States Code (U.S.C.) 552a(e)(10), and Office of Management and Budget Circular A-123, “Internal Control Systems.” Notice of this system, “Record of Individuals Authorized Entry to HCFA Buildings via A Card Key Access System, HHS/HCFA/OBA, System No. 09-70-3001” was published in the Federal Register on January 15, 1981 (46 FR 3524), and modified at 61 FR 6645 (added unnumbered social security use). These regulations and directives established that federal workers and other authorized personnel may be issued United States Government identification cards.

II. Collection and Maintenance of Data in the System

A. Scope of the Data Collected

The system contains names of Federal employees, contractors and consultants, Government Services Administration (GSA) employees, and contract guards working in the central office complex in Baltimore, assigned card key number, and the building/secure area location. The system also contains the date and time of actual or attempted entry to secured areas.

B. Agency Policies, Procedures, and Restrictions on the Routine Use

The Privacy Act permits us to disclose information without an individual's consent if the information is to be used for a purpose which is compatible with the purpose(s) for which the information was collected. Any such disclosure of data is known as a “routine use.” The government will only release RICKS information as provided for under “Section III. Entities Who May Receive Disclosures Under Routine Use.”

We will only disclose the minimum personal data necessary to achieve the purpose of RICKS. HCFA has the following policies and procedures concerning disclosures of information which will be maintained in the system. In general, disclosure of information from the system of records will be approved only for the minimum information necessary to accomplish the purpose of the disclosure only after HCFA:

(a) Determines that the use or disclosure is consistent with the reason that the data is being collected, e.g., to issue and control United States Government card keys to all HCFA employees and other authorized individuals.

(b) Determines:

(1) That the purpose for which the disclosure is to be made can only be accomplished if the record is provided in individually identifiable form;

(2) That the purpose for which the disclosure is to be made is of sufficient importance to warrant the effect and/or risk on the privacy of the individual that additional exposure of the record might bring; and

(3) That there is a strong probability that the proposed use of the data would in fact accomplish the stated purpose(s).

(c) Requires the information recipient to:

(1) Establish administrative, technical, and physical safeguards to prevent unauthorized use of disclosure of the record;

(2) Remove or destroy at the earliest time all individually-identifiable information; and

(3) Agree to not use or disclose the information for any purpose other than the stated purpose under which the information was disclosed.

(d) Determines that the data are valid and reliable.

III. Proposed Routine Use Disclosures of Data in the System

Entities Who May Receive Disclosures Under Routine Use

These routine uses specify circumstances, in addition to those provided by statute in the Privacy Act of 1974, under which HCFA may release information from the RICKS without the consent of the individual to whom such information pertains. Each proposed disclosure of information under these routine uses will be evaluated to ensure that the disclosure is legally permissible, including but not limited to ensuring that the purpose of the disclosure is compatible with the purpose for which the information was collected. We are proposing to establish or modify the following routine use disclosures of information maintained in the system:

1. To agency contractors, or consultants who have been engaged by the agency to assist in accomplishment of a HCFA function relating to the purposes for this system of records and who need to have access to the records in order to assist HCFA.

We contemplate disclosing information under this routine use only in situations in which HCFA may enter into a contractual or similar agreement with a third party to assist in accomplishing a HCFA function relating to purposes for this system of records.

HCFA occasionally contracts out certain of its functions when doing so would contribute to effective and efficient operations. HCFA must be able to give a contractor or consultant whatever information is necessary for the contractor or consultant to fulfill its duties. In these situations, safeguards are provided in the contract prohibiting the contractor or consultant from using or disclosing the information for any purpose other than that described in the contract and requires the contractor or consultant to return or destroy all information at the completion of the contract.

2. To another federal agency to conduct activities related to this system of records and who need to have access to the records in order to perform the activity.

We contemplate disclosing information under this routine use only in situations in which HCFA may enter into a contractual or similar agreement with another Federal agency to assist in accomplishing HCFA functions relating to purposes for this system of records.

The Federal Protection Service may require RICKS information if investigating a crime and/or in the administration of its assigned responsibilities.

3. To a Member of Congress or to a congressional staff member in response to an inquiry of the congressional office made at the written request of the constituent about whom the record is maintained.

Federal employees and other individuals sometimes request the help of a Member of Congress in resolving an issue relating to a matter before HCFA. The Member of Congress then writes HCFA, and HCFA must be able to give sufficient information to be responsive to the inquiry.

4. To the Department of Justice (DOJ), court or adjudicatory body when:

(a) The agency or any component thereof, or

(b) Any employee of the agency in his or her official capacity, or

(c) Any employee of the agency in his or her individual capacity where the DOJ has agreed to represent the employee, or

(d) The United States Government,

is a party to litigation or has an interest in such litigation, and by careful review, HCFA determines that the records are both relevant and necessary to the litigation and that the use of such records by the DOJ, court or adjudicatory body is compatible with the purpose for which the agency collected the records.

Whenever HCFA is involved in litigation, or occasionally when another party is involved in litigation and HCFA's policies or operations could be affected by the outcome of the litigation, HCFA would be able to disclose information to the DOJ, court or adjudicatory body involved.

IV. Safeguards

The RICKS system will conform with applicable law and policy governing the privacy and security of Federal automated information systems. These include but are not limited to: the Privacy Act of 1974, Computer Security Act of 1987, the Paperwork Reduction Act (PRA) of 1995, the Clinger-Cohen Act of 1996, and OMB Circular A-130, Appendix III, “Security of Federal Automated Information Resources.” HCFA has prepared a comprehensive systems security plan as required by the OMB Circular A-130, Appendix III. This plan conforms fully to guidance issued by the National Institute for Standards and Technology (NIST) in NIST Special Publication 800-18, “Guide for Developing Security Plans for Information Technology Systems.” Paragraphs A-C of this section highlight some of the specific methods that HCFA is using to ensure the security of this system and the information within it.

A. Authorized Users

Personnel having access to the system have been trained in Privacy Act and systems security requirements. Employees and contractors who maintain records in the system are instructed not to release any data until the intended recipient agrees to implement appropriate administrative, technical, procedural, and physical safeguards sufficient to protect the confidentiality of the data and to prevent unauthorized access to the data. In addition, HCFA is monitoring the authorized users to ensure against excessive or unauthorized use. Records are used in a designated work area or work station and the system location is attended at all times during working hours.

To ensure security of the data, the proper level of class user is assigned for each individual user as determined at the agency level. This prevents unauthorized users from accessing and modifying critical data. The system database configuration includes five classes of database users:

• Database Administrator class owns the database objects, e.g., tables, triggers, indexes, stored procedures, packages, and has database administration privileges to these objects; and

• Submitter class has read and write access to database objects, but no database administration privileges.

B. Physical Safeguards

All server sites have implemented the following minimum requirements to assist in reducing the exposure of computer equipment and thus achieve an optimum level of protection and security for the RICKS system:

Access to all servers is controlled, with access limited to only those support personnel with a demonstrated need for access. Servers are to be kept in a locked room accessible only by specified management and systems support personnel. Each server requires a specific log-on process. All entrance doors are identified and marked. A log is kept of all personnel who were issued a security card, key and/or combination which grants access to the room housing the server, and all visitors are escorted while in this room. All servers are housed in an area where appropriate environmental security controls are implemented, which include measures implemented to mitigate damage to Automated Information System resources caused by fire, electricity, water and inadequate climate controls.

Protection applied to the workstations, servers and databases include:

• User Log-ons—Authentication is performed by the Primary Domain Controller/Backup Domain Controller of the log-on domain.

• Workstation Names—Workstation naming conventions may be defined and implemented at the agency level.

• Hours of Operation—May be restricted by Windows NT. When activated, all applicable processes will automatically shut down at a specific time and not be permitted to resume until the predetermined time. The appropriate hours of operation are determined and implemented at the agency level.

• Inactivity Log-out—Access to the NT workstation is automatically logged out after a specified period of inactivity.

• Warnings—Legal notices and security warnings display on all servers and workstations.

• Remote Access Services (RAS)—Windows NT RAS security handles resource access control. Access to NT resources is controlled for remote users in the same manner as local users, by utilizing Windows NT file and sharing permissions. Dial-in access can be granted or restricted on a user-by-user basis through the Windows NT RAS administration tool.

There are several levels of security found in the RICKS system. Windows NT provides much of the overall system security. The Windows NT security model is designed to meet the C2-level criteria as defined by the U.S. Department of Defense's Trusted Computer System Evaluation Criteria document (DoD 5200.28-STD, December 1985). Netscape Enterprise Server is the security mechanism for all transmission connections to the system. As a result, Netscape controls all information access requests. Anti-virus software is applied at both the workstation and NT server levels.

Access to different areas on the Windows NT server is maintained through the use of file, directory and share level permissions. These different levels of access control provide security that is managed at the user and group level within the NT domain. The file and directory level access controls rely on the presence of an NT File System hard drive partition. This provides the most robust security and is tied directly to the file system. Windows NT security is applied at both the workstation and NT server levels.

C. Procedural Safeguards

All automated systems must comply with Federal laws, guidance, and policies for information systems security as stated previously in this section. Each automated information system should ensure a level of security commensurate with the level of sensitivity of the data, risk, and magnitude of the harm that may result from the loss, misuse, disclosure, or modification of the information contained in the system.

V. Effect of the Modified System of Records on Individual Rights

HCFA proposes to establish this system in accordance with the principles and requirements of the Privacy Act and will collect, use, and disseminate information only as prescribed therein. We will only disclose the minimum personal data necessary to achieve the purpose of RICKS. Disclosure of information from the system of records will be approved only to the extent necessary to accomplish the purpose of the disclosure. HCFA has assigned a higher level of security clearance for the information maintained in this system in an effort to provide added security and protection of data in this system.

HCFA will take precautionary measures to minimize the risks of unauthorized access to the records and the potential harm to individual privacy or other personal or property rights. HCFA will collect only that information necessary to perform the system's functions. In addition, HCFA will make disclosure from the proposed system only with consent of the subject individual, or his/her legal representative, or in accordance with an applicable exception provision of the Privacy Act.

HCFA, therefore, does not anticipate an unfavorable effect on individual privacy as a result of the disclosure of information relating to individuals.

Michael McMullan,
Acting Deputy Administrator, Health Care Financing Administration.

09-70-3001

System Name:

Record of Individuals Authorized Entry to HCFA Buildings via a Card Key Access System (RICKS), HHS/HCFA/OICS.

Security Classification:

Level Three Privacy Act Sensitive Data.

System Location:

HCFA, 7500 Security Boulevard, North Building, First Floor (magnetic media), and South Building, Lower Level (paper), Baltimore, Maryland 21244-1850.

Categories of Individuals Covered by the System:

The identified individual includes Federal employees; contractors and consultants; and Government Services Administration employees and contract guards working in HCFA's central office complex at 7500 Security Boulevard, Baltimore, Maryland.

Categories of Records in the System:

This system contains the name of the employees or the other authorized individual, assigned card key number, and building/secure area. The system also contains the date and time of actual or attempted entry to secured areas.

Authority for Maintenance of the System:

Authority for maintenance of this system is given under Title 41 Code of Federal Regulations (CFR) Chapter 101-20.302, “Conduct on Federal Property,” Title 5 United States Code (U.S.C.) 552a(e)(10), and Office of Management and Budget Circular A-123, “Internal Control Systems.

Purpose(s):

The primary purpose of the system of records is to issue and control United States Government card keys to all HCFA employees and other authorized individuals who require access into certain designated or secured areas. Information retrieved from this system of records will be used to: support regulatory and policy functions performed within the agency or by a contractor or consultant, assist other Federal agencies to conduct activities related to this system, support constituent requests made to a congressional representative, and support litigation involving the agency.

Routine Uses of Records Maintained in the System, Including Categories or Users and the Purposes of Such Uses:

The Privacy Act allows us to disclose information without an individual's consent if the information is to be used for a purpose which is compatible with the purpose(s) for which the information was collected. Any such compatible use of data is known as a “routine use.” The proposed routine use in this system meets the compatibility requirement of the Privacy Act. We are proposing to establish the following routine use disclosures of information which will be maintained in the system:

1. To agency contractors, or consultants who have been engaged by the agency to assist in accomplishment of a HCFA function relating to the purposes for this system of records and who need to have access to the records in order to assist HCFA.

2. To another Federal agency engaged by the agency to assist in the performance of a service related to this system of records and who need to have access to the records in order to perform the activity.

3. To a Member of Congress or to a congressional staff member in response to an inquiry of the congressional office made at the written request of the constituent about whom the record is maintained.

4. To the Department of Justice (DOJ), court or adjudicatory body when:

(a) The agency or any component thereof, or

(b) Any employee of the agency in his or her official capacity, or

(c) Any employee of the agency in his or her individual capacity where the DOJ has agreed to represent the employee, or

(d) The United States Government, is a party to litigation or has an interest in such litigation, and by careful review, HCFA determines that the records are both relevant and necessary to the litigation and that the use of such records by the DOJ, court or adjudicatory body is compatible with the purpose for which the agency collected the records.

Policies and Practices for Storing, Retrieving, Accessing, Retaining, and Disposing of Records in the System:

Storage:

All records are stored on paper and magnetic disk.

Retrievability:

Magnetic media records are retrieved by the name of the employees or other authorized individual and/or card key number. Paper records are retrieved alphabetically by name.

Safeguards:

HCFA has safeguards for authorized users and monitors such users to ensure against excessive or unauthorized use. Personnel having access to the system have been trained in the Privacy Act and systems security requirements. Employees who maintain records in the system are instructed not to release any data until the intended recipient agrees to implement appropriate administrative, technical, procedural, and physical safeguards sufficient to protect the confidentiality of the data and to prevent unauthorized access to the data.

In addition, HCFA has physical safeguards in place to reduce the exposure of computer equipment and thus achieve an optimum level of protection and security for the RICKS system. For computerized records, safeguards have been established in accordance with HHS standards and National Institute of Standards and Technology guidelines, e.g., security codes will be used, limiting access to authorized personnel. System securities are established in accordance with HHS, Information Resource ManagementCircular #10, Automated Information Systems Security Program, HCFA Automated Information Systems Guide, Systems Securities Policies, and OMB Circular No. A-130 (revised), Appendix III.

Retention and Disposal:

Records are retained for up to 3 years following expiration of an individual's authority to enter secured areas. When an individual is no longer authorized, information is deleted from magnetic media immediately.

System Manager(s) and Address:

Director, Division of Facilities Management Services, Administrative Services Group, Office of Internal Customer Support, Health Care Financing Administration, 7500 Security Boulevard, SLL-11-08, Baltimore, Maryland 21244-1850.

Notification Procedure:

For purpose of access, the subject individual should write to the system manager who will require the system name, assigned card key number, and building/secure area, and for verification purposes, the subject individual's name (woman's maiden name, if applicable), and social security number (SSN). Furnishing the SSN is voluntary, but it may make searching for a record easier and prevent delay.

Record Access Procedure:

For purpose of access, use the same procedures outlined in Notification Procedures above. Requestors should also reasonably specify the record contents being sought. (These procedures are in accordance with Department regulation 45 CFR 5b.5(a)(2).)

Contesting Record Procedures:

The subject individual should contact the system manager named above, and reasonably identify the record and specify the information to be contested. State the corrective action sought and the reasons for the correction with supporting justification. (These procedures are in accordance with Department regulation 45 CFR 5b.7.)

Record Source Categories:

HCFA obtains information in this system from the individuals who submit a request for access to a secure building or area.

Systems Exempted from Certain Provisions of the Act:

None.

[FR Doc. 01-6539 Filed 3-15-01; 8:45 am]

BILLING CODE 4120-03-U